DEPARTMENT OF ENERGY

Federal Energy Regulatory Commission

[Docket No. EL12-40-000]

California Independent System Operator Corporation; Notice of Complaint

Take notice that on February 29, 2012, pursuant to sections 206, 306, and 309 of the Federal Power Act, 16 U.S.C. 824e, 825e, and 825h, and section 206 of the Federal Energy Regulatory Commission's (Commission) Rules of Practice and Procedure, 18 CFR 385.206, California Independent System Operator Corporation (Complainant) filed a formal complaint requesting that the Commission modify sections 22.1 and 22.4 of the Transmission Control Agreement (TCA) to revise the standard for a determination of liability or indemnity from an ordinary negligence standard to a gross negligence standard. The Complainant challenges that the TCA would be unjust, unreasonable, and unduly discriminatory without the revisions.

Any person desiring to intervene or to protest this filing must file in accordance with Rules 211 and 214 of the Commission's Rules of Practice and Procedure (18 CFR 385.211 and 385.214). Protests will be considered by the Commission in determining the appropriate action to be taken, but will not serve to make protestants parties to the proceeding. Any person wishing to become a party must file a notice of intervention or motion to intervene, as appropriate. The Respondent's answer and all interventions, or protests must be filed on or before the comment date. The Respondent's answer, motions to intervene, and protests must be served on the Complainants.

The Commission encourages electronic submission of protests and interventions in lieu of paper using the “eFiling” link at http://www.ferc.gov. Persons unable to file electronically should submit an original and 14 copies of the protest or intervention to the Federal Energy Regulatory Commission, 888 First Street NE., Washington, DC 20426.

This filing is accessible on-line at http://www.ferc.gov, using the “eLibrary” link and is available for review in the Commission's Public Reference Room in Washington, DC. There is an “eSubscription” link on the Web site that enables subscribers to receive email notification when a document is added to a subscribed docket(s). For assistance with any FERC Online service, please email FERCOnlineSupport@ferc.gov, or call (866) 208-3676 (toll free). For TTY, call (202) 502-8659.

Comment Date: 5 p.m. Eastern Time on March 21, 2012.

Dated: March 1, 2012.
Kimberly D. Bose,
Secretary.

[FR Doc. 2012-5540 Filed 3-6-12; 8:45 am]

BILLING CODE 6717-01-P